DEPARTMENT OF VETERANS AFFAIRS

West Los Angeles VA Medical Center; Draft Master Plan

AGENCY: Department of Veterans Affairs.

ACTION: Notice.

SUMMARY: This Federal Register Notice announces publication of the Draft Master Plan for the West Los Angeles (WLA) Department of Veterans Affairs (VA) campus (hereinafter referred to as the “Draft Master Plan”). This notice also responds to public comments received in response to the Preliminary Draft Master Plan that VA published on October 22, 2015.

SUPPLEMENTARY INFORMATION:

Introduction

On October 22, 2015, the Department of Veterans Affairs (VA) published a notice in the Federal Register (80 FR 64061), seeking public comments for 45 days ending on Monday December 7, 2015, on the Preliminary Draft Final Master Plan for the Greater Los Angeles (GLA) VA Medical Center. As indicated in the Federal Register announcement, the campus consists of approximately 388 acres in the heart of Los Angeles. It has approximately 104 buildings, 39 of which are historic, 12 which are in need of seismic improvements, and a number of which are currently vacant or closed.

A key purpose for VA to solicit the public comments was to inform the Department's ongoing process to revitalize the campus and make it more Veteran focused (particularly for homeless, severely disabled, aging, and female Veterans); help end Veterans homelessness in greater Los Angeles, in coordination with key stakeholders (including former plaintiffs in the Valentini v. McDonald lawsuit, pertinent federal, state, and local authorities, legislators, Veteran Service Organizations, Veterans, local community partners, outside experts, and philanthropic entities); receive input to determine ways to make the campus more of a welcoming and thriving environment for Veterans and their families, whether living on or off campus, as they engage with one another on a peer-to-peer level, and receive the healthcare, benefits, and other services that they earned for serving our country; improve the processes and procedures regarding the review, execution, and administration of third-party land use agreements on campus, to ensure that those agreements that are not Veteran focused and not central to VA's mission and operations are as appropriate, modified, or terminated in support of VA's ongoing campus revitalization efforts.

We are pleased to advise that as a result of this public process, VA received a record number of comments: 1,002. They contained invaluable feedback on a range of issues pertinent to the campus, notably regarding: the enhancement of arts, entertainment, and recreation facilities and opportunities; ways to improve campus circulation, parking, security, and transportation; ideas for improving campus integration with the surrounding community; suggestions for increased and expanded clinical care including therapeutic and holistic approaches; housing and campus restoration; ways to improve and address third-party when you see agreements on campus; ways to improve benefits and memorial services on campus, as well as other amenities such as childcare services, legal counseling services, financial management services, and parking; operational issues including improvements to the organizational and leadership structures for the campus, to maximize the potential and desire to better connect Veterans to the campus and give them more opportunities to provide true insight and feedback; emphasis on improving transparency and accountability regarding the spectrum of healthcare, benefits, memorial service, and third-party activities throughout the campus; options to improve access, reintegration, employment, counseling, family well-being, and other services for Veterans on the campus and within the surrounding community.

VA has received numerous letters of support for legislation that Senator Dianne Feinstein and Congressman Ted Lieu have introduced in Congress to support VA's plan to revitalize the campus. The bill is known as S. 2013 and HR 3484, and is title the “Los Angeles Homeless Veterans Act of 2015.” The legislation would enable VA to provide much needed supportive housing and services on the campus for Veterans and their families. It would expressly prohibit VA from permanently transferring, selling, or disposing of any of the land on the campus, and would require leases to comply with applicable laws and regulations in conjunction to pertinent congressional notification, reporting requirements and Inspector General Reviews. VA is grateful to Senator Feinstein and Congressmen Lieu for their leadership and support during this exciting journey, and strongly supports this legislation as it will serve as a key driver in VA's ability to successfully implement the Draft Master Plan for Veterans in the Greater Los Angeles area.

As we proceed towards adoption of the Draft Master Plan and commence its implementation, we envision the GLA campus serving as an exemplary model for other VA facilities nationwide. We also look forward to working with all stakeholders to ensure that this campus transformation coincides with VA's I care values of integrity, commitment, advocacy, respect, and excellence, relative to VA's overriding objective of putting Veterans in control of how, when, and where they want to receive their healthcare and services. With your continued support we are confident that VA will be able to fulfill President Abraham Lincoln's promise: “to care for him who she'll have born the battle, and for his widow, and his orphan,” by serving and honoring the men and women who are America's Veterans.

To most efficiently review and respond to the 1,002 comments in the Federal Register, VA organized the responses into nine categories. Comments often addressed a range of topics, resulting in a single comment classified under multiple categories. While there were 1,002 total comments submitted to the Federal Register, there were 1,732 total comment categorizations to account for the comments that addressed multiple topics. Approximately 60% of the 1,002 total comments fell within the scope of a master plan, while the remaining 40% addressed topics that are outside the scope of a master plan. VA will address all comments, both within and outside the scope of a master plan, in this document. The table below shows the number of comments received for each subcategory.

Comment subcategory | Total comment categorizations *
Arts, Recreation & Entertainment | 93
Campus Circulation | 29
Clinical | 145
Connectivity | 155
Housing/Campus Restoration | 137
Land Use Agreements | 397
Parking | 134
Transparency & Accountability | 146
Veteran Access | 341
General Support | 124
General Discontent | 31
Total Comment Categorizations * | 1,732
* A single comment can be classified in as many as four subcategories, allowing for more total comment categorizations than total comments.

In addition to the nine categories addressed in this document there were 124 categorizations of non-specific comments expressing general support for the Draft Master Plan and revitalization of the GLA campus, and 31 categorizations of comments expressing general discontent with VA.

Arts, Entertainment, and Recreation

Definition of Arts, Entertainment, and Recreation subcategory: Any comments requesting the development of new or altering the existing artistic, entertainment, or recreational facilities on the VA GLA campus.

Response

The public submitted comments on a breadth of topics under the umbrella of Arts, Entertainment, and Recreation. These comments most prominently covered the type and availability of recreational activities on the Greater Los Angeles campus. Recreation-related comments generally fell under a couple different categories. The first category was comments seeking a centrally located recreation center and other athletic, recreational, rehabilitative, and therapeutic facilities established on campus. These comments will be taken into consideration in the development of the Zone 5 outer ring of the campus, and in each development which has been set aside for development into recreational facilities. The Master Plan focuses on developing supportive housing in conjunction with a healthy assortment of recreational facilities, to serve the future resident population on campus.

The second category was comments seeking the development of meditative gardens and walking paths for Veterans, their families, and their visitors. VA received several comments requesting arts and entertainment options available on campus, as well. Comments focusing on the arts either requested a centrally located arts facility or an artistic means of honoring Veterans on campus. Commenters requested that the former allow space to make and refine art, including but not limited to screening rooms, audition rooms, makeup studios, a graphic design lab, studio space, and hobby shops. As with the requested recreational facilities described above, an arts facility could be developed in Zone 4 of the campus. Commenters focusing on the latter requested either that artist installations honoring Veterans be placed throughout the campus or a public memorial be placed on campus to allow Veterans to reflect, while also educating the public on the Veterans' sacrifices. The feasibility of artist installations throughout the campus will be explored and expanded, but the Grand Lawn in the southwest corner of the north campus is intended to be a quiet memorial space where Veterans and the general public can come to reflect and learn. The last major topic focused directly on the entertainment options to be available on campus. These comments were dedicated mainly to development of three venues: An outdoor concert space, a movie theatre, and an auditorium. The Greater Los Angeles VA can provide these spaces, by leveraging existing and future facilities. These issues are further addressed in the Chapter II, Section B section of the Master Plan.

Campus Circulation

Definition of Campus Circulation subcategory: Any comments discussing transportation within and around the campus.

Response

Campus Circulation concerns the movement of people and vehicles around, to, and from the GLA campus. Many comments noted deficiencies in the internal circulation of the campus, the lack of signage, and problems of way-finding throughout the campus. Commentators believe that the campus can be improved in its spatial organization to create a more easily legible plan. Overall, the majority of comments concerning internal circulation on campus asked for a variety of transportation modes and supporting infrastructure including pedestrian and bicycle pathways or routes; an improved, reliable shuttle to connect the various campus centers with convenient stop locations; and sufficient parking distributed throughout the campus.

There were also many comments voicing concern for circulation beyond the GLA campus. Commentators noted that in the attempt to make the campus a “hub” for regional services, it is important to make it accessible to all Veterans in the region. Some comments pointed out the difficulty of getting to and from services and those at the VA campus, particularly pointing out the desirability of a pedestrian and bicycle access route on Constitution Avenue between the UCLA Medical School and the VA Hospital. Comments expressed concern for the already grueling traffic conditions in the Westwood/Brentwood/Sawtelle neighborhoods that would only be added to with the increase of residents and visitors on the VA site.

Responses to the Preliminary Draft Final Master Plan commented on the poor quality of walkways, grade management, and visible bus stops. Many requests were made to improve roadway infrastructure in the surrounding areas particularly for safe and accessible bus/shuttle stops as well as safer and better-designed entrance/exit ramps, bicycle lanes and pedestrian infrastructure along Wilshire Boulevard.

Lastly, a number of comments to the Federal Register concerned the current poor traffic flow in the West LA area and the probable impact of the hundred or even thousands of new residents and visitors the campus could bring to the area. The majority of comments asked for the Draft Master Plan to carefully assess and plan for the growing traffic conditions in areas around the campus.

Circulation is one of the key factors in the Draft Master Plan even in its earliest conceptual development. Circulation considerations include road, bike, shuttle and pedestrian networks; it also considers site features, programming, security and accessibility concerns. The Draft Master Plan evaluates all of the existing conditions both inside and around the GLA campus based on available data. There are a number of further studies that the plan recommends in order to optimize the GLA campus circulation network designs, including a more in-depth traffic study. Still, the circulation plan must aspire to optimize development of the site and contribute to restoring the campus to its legacy as a Soldier's Home.

A key priority of the Draft Master Plan is to include various forms of transportation and to accommodate all Veteran needs on campus. Therefore, the Draft Master Plan includes campus network designs for pedestrian, bicycle, shuttle routes as well as a newly designed road network. The campus will be able to be navigated by pedestrian, bicycle, shuttle and vehicle routes. The design of these routes creates zones with different levels of accessibility and security. The road networks were designed to establish a hierarchy of routes that will allow the campus to be efficiently connected and navigated. The Draft Master Plan includes a design for a shuttle system with four routes that provide transportation to each end of the campus as well as beyond the campus boundaries. The shuttle routes radiate from key areas of Veteran services and interaction, such as the Town Center and each of the neighborhood centers.

The site's topography, including features such as the bluff and arroyo, had a great influence on the Draft Master Plan's road network design. The grade change throughout the campus was a concern for pedestrian circulation throughout the site. It was important that pedestrian circulation have a wide range of foot paths including routes that pedestrians with physical disabilities would be able to move throughout the campus. The Draft Master Plan proposed a pedestrian “spine” that runs to each end of the campus, including a pedestrian bridge over Wilshire Boulevard, that maintains a maximum grade change of 5%, serving as an important mode of accessibility.

The Draft Master Plan also proposed a 2.5 mile loop dedicated to non-vehicular traffic. This loop will provide much needed recreational space for the campus as well as contribute to the transportation network of the campus. Apart from the loop, the plan provides over 5 additional miles of bicycle routes or lanes throughout the campus.

The Draft Master Plan adds an access point to the campus along the north side and locates this point south of the Barrington Post Office in order to reduce impact on the already high traffic intersections around Brentwood Village. The Draft Master Plan adds access points along the west side of campus, both from the north campus onto Bringham Avenue and from the south campus onto Federal Avenue. The Draft Master Plan also uses the Constitution Avenue entrance from Sepulveda Boulevard for direct access into a proposed Reintegration Zone within the Industrial District on the east side. Lastly, there are additional access points to the south campus that run parallel to the existing access point from Ohio Avenue, offering alternative access to the southbound I-405 freeway. The update plan now includes a proposal for the Transit Authority to have a station stop on the campus that will have passenger portals with access to the medical section of the campus and to the industrial and cultural district of the campus.

To address the surrounding community's concerns about traffic, the plan aims to reduce potential negative impact of campus development by providing multiple points of entry and egress to distribute traffic among multiple route options. The Draft Master Plan encourages multiple forms of transportation to reduce the dependency on the car. The objective is for the campus to be completely accessible for all Veterans without use of a private vehicle.

Clinical

Definition of Clinical subcategory: Any comments discussing the GLA Medical Center clinical care as well as any comments discussing expanding clinical care to include therapeutic and/or holistic approaches to Veteran care.

Response

VA received numerous comments on clinical care and Veteran services on the GLA campus. The majority of comments that fell under this category focused on specific service areas, including: Self-care instruction and volunteerism; peer-support specialist services (including a concierge); family and caregiver support (including child-care); housing (emergency, triage, bridge, transitional and permanent supportive); integrative (non-traditional, alternative) healthcare; rehabilitative services and healing arts; forums for traditional and non-traditional spiritual practice; education, vocational training and job placement; benefits, financial coaching and a full range of legal services; on-site employment and entrepreneurism, and recreation (individual/team sports, entertainment and leisure. Veteran comments consistently requested enhancements to these service areas to provide a holistic, 21st Century approach to Veteran care.

As VA revitalizes and reinvigorates the physical plan of the GLA campus, it must also add to the service plan both on the campus and in the community. The goal is to create a vibrant, welcoming, Veteran-focused, outcomes-driven model for Veterans and their families. The services must be strength-based, holistic, and aimed at helping the Veteran and the Veteran's family beyond the traditional medical models. Practically speaking, it means “how”, “when” and “where” services are delivered must conform to the needs of the Veteran. This is particularly relevant for Veterans who are aging, disadvantaged, and suffering from chronic debilitating illnesses like schizophrenia and other psychotic disorders, Post-Traumatic Stress Disorder (PTSD), addictions and/or other medical complications that compromise the Veteran's quality of life. It is particularly relevant for female Veterans who need designated space and services to address their unique healthcare and preventative healthcare needs. The campus must also have capacity to address the wellbeing and preventative care concerns of younger veterans transitioning back to civilian life by addressing their employment, educational, familial and other reintegration issues. Lastly there is a need to ensure

Services must also be delivered in partnership with VA's academic affiliates, including UCLA, and other VA partners who have expertise in caring for homeless and other vulnerable Veteran populations. As part of the service enhancements, it will be critical to create improved access processes through not only more effective staff and volunteer efforts, but also through a resource center and the use of Veteran peer supports (concierges) that improves the ease with which various parts of the campus can be navigated.

VA also received numerous comments related to existing services provided at the GLA campus (i.e., Mental Health Services). Comments of this nature were outside the scope of a master planning process; however, are still important feedback as VA evaluates and enhances GLA campus operations. Comments relating to existing services and providers on campus were grouped and forwarded to VISN leadership for consideration as VA continues to evaluate the GLA Medical Center organizational structure.

For more information on proposed Veteran services' enhancements, please refer to Chapter II, Section B of the Draft Master Plan.

Connectivity

Definition of Connectivity subcategory: Any comment on integrating the campus into the surrounding community, or public access to the campus.

Response

There were some conflicting ideas on campus/public connectivity submitted to the Federal Register. A small number of comment submissions expressed the need for the campus to be entirely and strictly returned exclusively to the Veteran community. Opposing comments expressed the desire for some of the land to be utilized or even bestowed for public or community use. However, the majority of comments asked for the campus to have permeable space throughout the campus that encourages Veteran/civilian interaction and community building.

At 388 acres, the campus is big enough to accommodate a wide variety of needs and conditions, but it must be used to service the Veteran community. This includes the facilitation of reintegration and community building desired by so many Veterans. The VA campus has provided valued resources for the communities of Los Angeles for decades. However, it is important that the Draft Master Plan focus on providing an accessible, community rich, therapeutic space for Veterans. The Draft Master Plan includes a variety of places that can create a sense of security and safety for Veterans, and other more permeable spaces that can be shared with others as appropriate in order to “emphasize community, not campus”.

The Draft Master Plan focuses on making the campus a destination for all Veterans. The site is meant to be a home and a community. The planning process recognizes 21st century models for re-integration that connect with the community-at-large and the Draft Master Plan was devised to build connections not just in spatial design but also in the programming of supportive services on campus. The plan includes major advancements in campus programming aimed at drawing in Veterans of all demographics, as well as to give Veterans the opportunity to create programs that can include members of the public, working together to enhance the Veteran community on campus. For example, beyond the need for Veteran housing and services, the plan proposed to incorporate cultural activities, community spaces, recreation and entertainment, and Veteran employment opportunities. The intent is to discourage the isolation of Veterans by designating physical zones on campus that have directed purposes and uses with varying degrees of public and Veteran permeability.

The Draft Master Plan proposed five zones within the campus. The most open and accessible of the zones, Zone 5, forms a ring around Zones 2, 3, and 4 that hold the majority of non-medical Veteran services including most of the campus housing. This peripheral zone includes the campus recreational areas and green space as well as the campus industrial district and is intended to be the permeable outer ring of the campus. Although accessible and open, the outer ring also acts as a subtle barrier, wrapping the Veteran community within the exclusive core. The inner zones will be more exclusive areas that limit public access and even create some spaces only accessible to resident Veterans.

To address security concerns, the plan utilizes organizational and landscaping techniques to create soft barriers throughout the campus. This landscape and organization of the campus separates programs and areas that are exclusive to Veterans such as supportive housing and some counseling services. The organization of space as well as the use of landscape divides these spaces from the more permeable areas of the campus. In some particular situations, times or areas, a gate or access cards may be employed to further strengthen security of areas of the campus and select buildings.

The Veteran Vocational Enterprise and Cultural Center should be an important part of Veteran reintegration through public interface. This area of the campus should serve as a center of reintegration services and will include education, training and career counseling as well as entrepreneurial, employment and community spaces. As it is part of a public access zone, the area would include public infrastructure such as parking to accommodate its new uses. This area should utilize public interest and volunteers to form an urban space that will help to ease Veterans into civilian life in the Los Angeles area.

Also in Zone 5 is recreational and open space on the north end of the campus. Already acting as green space, with a more efficient use of space this area can provide the Veteran community and possibly the neighboring communities with open space, gardens and fields. For example, the area that is currently designated as the Veteran's parking lot servicing Brentwood Village, can be utilized by Veteran-owned businesses and still provide parking to the neighboring community. Central to this concept of public access is that it is Veteran-owned and Veteran controlled and the public is welcome to share it by invitation.

Housing & Campus Restoration

Definition of Housing & Campus Restoration subcategory: Any comments discussing housing development on campus, methods to foster a sense of community among the campus residents, or the physical revitalization of the campus.

Response

VA received numerous Federal Register comments related to housing for Veterans on the GLA campus. There was overwhelming support for providing housing for Veterans on the campus, and the majority of comments addressed the types of housing to be provided.

Some common housing themes in the comments received include (1) increase the amount of housing over the total units originally proposed (2) add housing units as quickly as possible (3) ensure all housing is low cost and affordable to Veterans (4) various types of housing (i.e. housing and neighborhoods with character) and (5) the need for permanent supportive housing. Some common themes also emerged regarding the target population for the housing which generally fall into the following three categories: (1) Ensure housing is open to those Veterans with the most need (2) provide housing for female veterans with and without dependents (3) allow access for Veterans in need but not identified in the specific target populations. Finally, the comments expressed a desire to build a sense of community with the housing as opposed to purely functional housing.

VA committed to bringing affordable housing for Veterans to the GLA campus, and the Draft Master Plan now includes housing for the projected need of 1200 units, based on the Housing Needs and Analysis contained in Chapter II. This accounts for 300 more units than was identified in the initial plan. Chapter II of the Draft Master Plan identifies specific target populations (severely disabled Veterans, including chronically homeless Veterans; aging Veterans; and female Veterans with and without dependents), but would be available to all Veterans in need. The Draft Master Plan has planned for this housing to be developed with a sense of `community', which is described in detail in Chapter V of the Draft Master Plan.

Land Use Agreements

Definition of Land Use Agreements subcategory: Any comments discussing existing use of or proposing future use of land by a third party organization including UCLA, Brentwood School, Barrington Park operators, and the Westside Breakers.

Response

Feedback provided to VA during this master planning process from Veterans, Veterans Service Organizations, local authorities, congressional delegates, philanthropic organizations, the local community, and other stakeholders, expressed a consistent desire for the campus to: maximize the potential to reflect a transformed, strategic, and informed configuration and implementation focused on Veterans and their families; provide convenient access to facilities and resources via all pertinent modes of transportation; function effectively with appropriate levels and types of VA and non-VA care and staffing in pertinent and underpopulated disciplines; extend an inviting, warm, and welcoming environment to attract Veterans and their families across all spectrums; function effectively and in harmony with the surrounding community and business activities; and foster employment and career opportunities to help Veterans improve their lives and continue as productive members of society—all as envisioned in the 1888 deed that conveyed the campus to the United States.

Consistent with this appreciated feedback, VA's vision for the campus includes a goal to provide various types of housing on campus for Veterans and their families, particularly homeless, severely disabled, aging, and female Veterans. This will improve the choice for Veterans to either live on or off campus, in dignified facilities reflective of the sacrifices they have made for their country. If enacted, the Los Angeles Homeless Veterans Leasing Act of 2015 (i.e., S. 2013 and H.R. 3484) that Congressman Ted Lieu introduced in the House on September 10, 2015, and Senator Dianne Feinstein introduced in the Senate on October 6, 2015, would allow VA to provide Enhanced-Use (EU) Leases at the GLA campus.

VA's EU Lease authority as contained in 38 U.S.C. 8161-8169, would enable us to outlease parcels on the campus to selected lessees for terms of up to 75 years, to develop, operate, and maintain “supportive housing” for Veterans and their families. The types of housing would be a myriad of housing options to strategically serve Veterans in need, regardless of era of service. Such housing types would consist of transitional housing, single room occupancy housing, congregate living housing, independent living housing, assisted living housing, and other modalities of housing. When using this authority, VA would be expressly prohibited from disposing of the land and improvements involved in the projects at the GLA campus. At the end of the lease term, the real property would revert back to VA. Currently at other VA campuses nationwide, VA has 1,909 units of EU Lease housing currently operational, 1,046 units under construction, and 494 units planned, for a total of 3,994 units.

These two bills would also help VA revitalize the campus, by allowing VA to grant leases for terms of up to 50 years, to provide amenities and services, where Veterans can engage with one another and their families, and pursue a wide range of activities centered on their social, entertainment, healing, spiritual, employment, recreational, and rehabilitative interests and well-being.

Examples include spaces to accommodate Veteran and family interaction, peer support, restaurants, eateries, child care, legal and benefits assistance, movie and play theaters, art studios, a Veteran employment center, sports fields, a gymnasium, swimming pool, golf course, bike paths, parking spaces, dog park and kennel, church services, weddings, funerals, internments, non-profit Veteran support centers, hotel, dentist office, motorcycle training, a metro stop, and retail areas.

The two bills would also allow VA to grant a lease to institutions of the state of California, for a term of up to 10 years, in return for the provision of services to Veterans. Such services may include activities to directly support the medical, clinical, therapeutic, dietary, rehabilitative, legal, mental, spiritual, physical, recreational, research, and counseling needs of Veterans and their families. In an effort to maximize that opportunity, VA will explore the viability of further leverages to the current medical and academic affiliation with the University of California Los Angeles (UCLA). The providing of such services for Veterans and their families on and off the Greater Los Angeles campus, including through sports, recreational, educational, employment, and entertainment activities at the existing Jackie Robinson baseball stadium, will be a force multiplier in VA's efforts to revitalize the campus.

It will enable UCLA to confirm and demonstrate its firm commitment going forward, to ensure that its relationship with VA, Veterans, the local community, and other stakeholders, is one of true unwavering significance and substance in those areas for Veterans, as well as for educating future generations of doctors, nurses, researchers, and academics at VA and UCLA sites of care. This synergy could provide a framework and model to improve other academic and medical affiliations between VA and other medical schools and educational institutions nationwide, and provide benefits that transcend the paradigm of VA, the universities, institutions, and Veterans involved. For example, it could assist VA with its other potential partners such as: The Brentwood School, which has offered to provide therapy and recreational opportunities on its campus, along with scholarships for children of Veterans; the Red Cross, which has offered to assist VA in its disaster preparedness responsibilities and obligations, which will help improve campus capabilities and ensure sustainability; and bolster VA's ongoing implementation of key Veteran programs like the G.I. Bill.

While working to achieve this vision for the campus, VA will evaluate existing and future land use agreements to ensure they are “Veteran focused.” This means the arrangements must provide direct benefits to Veterans and their families, and provide negotiated fair market rent to VA. VA will also continue its ongoing efforts to terminate any existing third party use arrangements, which fall outside of providing direct benefits to Veterans. VA will do so in a manner that takes into account the legal parameters for doing so, based on the underlying contract provisions at issue, and the need for VA to be stewards of tax payer resources. And it will be VA's objective going forward, to work with Congress to ensure that if S. 2013 or H.R. 1543 is enacted, the revenues paid to VA from Veteran focused land use arrangements, will be directed to help renovate the GLA campus. Doing so will help us maintain and renovate the campus in accordance with applicable law and regulations, along with funding that VA receives through other prioritization, budgetary, congressional authorization and appropriation legislative, and enactment processes.

We will also effectuate these land use activities in a way that fosters ongoing engagement with and input from Veterans, Veteran Service Organizations, the local community, and other stakeholders, and ensures the continued safety of Veterans, VA personnel, and other persons traversing on and off the campus. And it is worth repeating that such reuse activities will not include VA selling or disposing of any of the land at the campus to third party entities. And the land use projects and activities will comply with all pertinent laws and regulations. This includes those regarding environmental and historic preservation, such as the National Environmental Policy Act (42 U.S.C. 4321-4370h); the National Historic Preservation Act (16 U.S.C. 470, et seq.); and the Comprehensive Environmental Response, Compensation, and Liability Act (42 U.S.C. 9601-9675).

Going forward, VA's efforts to revitalize the campus will only include `Veteran focused' agreements, or agreements that result in additional healthcare, benefits, services, or resources being provided directly to Veterans and/or their families on the GLA campus. Monetary proceeds paid to VA alone will not constitute an acceptable agreement. Neither will agreements that only benefit the public at large, versus Veterans and their families. This concept will be a key consideration in terms of how existing and any future land use agreements are evaluated for approval, rejection, or termination.

VA's review of any proposed third party land use agreements will entail a linear, multilayered process, to ensure adequate due diligence occurs. At a minimum, each agreement will receive input from the following VA personnel:

(1) West LA Chief of Outreach

(2) VAMC Director

(3) VISN 22 Director

(4) SAO West Land Use Contracting Officer

(5) The San Francisco Regional Counsel Office (now known as the Pacific District (North))

(6) OGC's Real Property Deputy Chief Counsel in VA Headquarters

This Veteran focused intent for all land use agreements at GLA going forward is absolutely appropriate and warranted, particularly given the lessons learned from the August 2013 District Court for Central District of California decision in the Valentini v. McDonald case, which held that nine of the existing land use agreements were illegal as they did not constitute a valid sharing of “health-care resources” under VA's Enhanced-Sharing Authority. Given those two clear principles, and as part of the “Principles for Partnership Agreement” that settled the Valentini lawsuit in January 2015, VA Secretary Robert McDonald commissioned an extensive review of the land use agreements at GLA, including those nine voided agreements. The nine agreements voided under the Court decision were as follows:

1. Brentwood School

2. Sodexho Marriott Laundry Services

3. UCLA Regents (Baseball Stadium)

4. 20th Century Fox TV

5. Veterans Park Conservancy

6. Westside Breakers Soccer Club

7. Westside Services Parking

8. TCM Farmer's Market

9. Filming Agreement ESAs

All land use agreements at the GLA campus, including the above nine agreements, have or are being reviewed, to determine whether they are or can be made sufficiently Veteran focused (thru fair market value rent to VA and services directly benefitting Veterans and their families), and fit within the overall needs and vision for a revitalized campus. To date, the terminated agreements include Richmark Entertainment; various filming agreements; Sodexo laundry agreement; 20th Century Fox; Westside Breakers; TCM Farmer's Market; and Veterans Garden (Rancho Santa Ana). VA is also in negotiations with the principals of certain existing land use arrangements (e.g., Brentwood School, UCLA, Westside Services, and Veterans Park Conservancy), to help assess the potential for Veteran focused consideration, and compatibility with the Draft Master Plan. As appropriate for those arrangements deemed to be Veteran focused, VA will seek to negotiate deals that are good for Veterans, their families, and our nation's tax payers, through a combination of fair market value rents, and Veteran focused consideration (such as in-kind consideration and use of existing and future facilities under those arrangements for purposes tied to recreation, rehabilitation, therapy, mental health support, legal and addiction services). The consideration generated will help VA significantly to transform and revitalize the campus into a state-of-the art model for other VA campuses nationwide.

Parking

Definition of Parking subcategory: Any comments discussing current or potential parking issues on campus including the Brentwood Village parking lot.

Response

VA received a number of Federal Register comments related to parking on the Greater Los Angeles campus. Parking related comments generally fell under one of two topics; comments requesting adequate parking for the main hospital building and comments regarding the Brentwood Village parking lot on the northern portion of the campus. The majority of comments regarding the Brentwood Village parking lot were in support of keeping this lot open for public use while simultaneously building Veteran focused partnerships with local community and businesses; however, there were also some comments that supported closing the Brentwood Village lot off to the general public.

VA is aware of the need for adequate parking at the main hospital building and throughout the campus, and as part of the implementation of the Draft Master Plan VA plans to improve the efficiency of the existing parking assets. Moreover, a critical component of the New Bed Care Tower (Replacement Hospital) project will be associated parking that should accommodate all parking demand for Veterans, employees, and visitors at the GLA Medical Center.

VA would not be opposed to keeping the Brentwood Village parking lot operational, as long as any land use agreement is Veteran focused and complies with the land use procedures described in further detail in the Land Use Agreements section of this document.

To maintain flexibility for the potential of continued public use, VA has edited the Preliminary Draft Final Master Plan by relocating the campus access point that had previously required the demolition of the Brentwood Village parking lot. Additional information regarding the proposed parking can be found the Draft Master Plan, Chapter V, Section B—Master Plan Framework, Subsection Campus Mobility Plan.

Transparency & Accountability

Definition of Transparency & Accountability subcategory: Any comments discussing or raising issues to the VISN or VAMC level leadership as well as any comment proposing the implementation of an external campus oversight council.

Response

A number of Transparency & Accountability comments raised concerns regarding the transparency of VISN and VAMC during strategic decision making processes. These comments generally requested that procedures be put into place to ensure that VA leadership keep the local Veteran population apprised of developing changes within the VISN and on GLA campus. The other common thread among these comments stressed that VISN and VAMC level leadership must hold poorly performing employees accountable. Many of these comments were general in nature, but noted past unpleasant experiences at VISN 22 facilities or at GLA campus specifically. They asked that VISN and VAMC level leadership open themselves to criticism more frequently and respond quickly.

To address concerns over transparency, VA plans to augment its current efforts to provide stakeholder updates and open the floor to Veteran and civilian input through regular VSO meetings, congressional meetings, and Town Halls. The first of such meetings will be planned for 90 days after VA Secretary Robert McDonald adopts the Draft Master Plan. In collaboration with Veteran groups, community partners and other stakeholders, VA will periodically review and reevaluate the Draft Master Plan every three years, to ensure the plan continues to meet the evolving needs of Veterans. The feedback process will be continued as VA selects new leadership for the GLA Campus (i.e., three senior executives—specifically the new GLA Medical Center Director; the Director of Land Use Agreement & Community Engagement and Reintegration Services; and Director of Community Based Care, including the Sepulveda campus and Community Based Outpatient Clinics).

To more promptly respond to criticisms of provided services, VA plans to strengthen the MyVA communities in the Los Angeles area. MyVA Communities are a collaborative network of Veterans, advocates, resources, and other stakeholders who organize through community Veteran Engagement Boards, to improve outcomes for Veterans, and their communities. The MyVA Communities model enables Veteran advocates, service providers, Veterans, and stakeholders to have a voice in providing input and feedback to VA, and identifying their goals and ways to engage and improve service delivery for Veterans and their families. The Los Angeles area Veteran Engagement Boards will carry the visions of the Draft Master Plan forward. Building and sustaining these avenues for continued Veteran feedback is a critical component of maintaining the Draft Master Plan, as a guiding resource for revitalizing and enhancing the GLA campus. All of this will be done to ensure appropriate oversight and Veteran collaboration while increasing transparency and accountability.

The Draft Master Plan document introduces the Community Veterans Engagement Board which is a collaborative, coordinated process to amplify the Veterans voice in matters that affect how, where, and when they receive care and services. Additional information can be found in Chapter III of the Draft Master Plan.

Veteran Access

Definition of Veteran Access subcategory: Any comments emphasizing the need to promote access of specific Veteran populations on campus or requesting additional services to eliminate barriers to accessing the campus. These comments also include various other operational requests to promote and enhance Veteran access to the campus such as Veteran employment and education opportunities, family services, Veteran Benefits assistance, Transition Center, legal counsel services, emergency preparedness services, extended hours of operations, etc.

Response

The public comments suggested that there should be no VA sale of any portions of the campus, to third parties for commercial uses. Other comments indicated a desire for a facility to add a focus aimed at assisting with the transition of active-duty military personnel to Veteran status. Other comments regarded the need to expand existing mental health, addition services, and transition services for active duty members entering the VA system. Comments also expressed desire for VA to collocate VBA onto the campus for improved ease to conduct business relating to VA's benefits system. Others want VA to establish a wellness or well-being center on campus, where Veterans can engage in peer to peer interaction and socializing, each other and their families. Other comments involved a need for support and special housing facilities for Veterans comprising the underserved populations—namely those that are homeless, severely disabled, aging, and women—particularly females with children, to assist in the recovery for those that have suffered sexual trauma, mental or physical abuse, or PTSD.

In response to these comments received, it is first important to note that neither VA nor the Draft Master Plan contemplated VA selling or disposing of any of the land and improvements at the Greater Los Angeles campus. VA envisions the development of supportive housing on campus pursuant to legislation Congress recently introduced in both houses of Congress—specifically, the Los Angeles homeless Veterans leasing act of 2015 (Senate Bill S. 2013 and corresponding house Bill HR 3484). VA has a phased development plan of 1,200 supportive housing units on the campus. The proposed timeline involves developing 60 units within the next 12 months, 150 units over the next 24 to 30 months, 280 units over the next 30 months, 280 units over the next 4 to 5 years, and 430 units over the next 6 to 10 years—all totaling 1,200 units. VA plans for those units to have special emphasis on homeless, severely disabled, aging, and female Veterans. The goal will be to strategically locate units designated for those underserved populations, in a manner to provide convenient access to the pertinent care and services that they will need, in a safe setting and environment. Along with development of those units would be Veteran focused supportive service leases, geared towards Veteran Health and wellness, nutrition and spiritual wellness, education, vocational training, skills building, peer activities, socialization, and physical recreation, assistance with legal issues and federal benefits, volunteerism, family support services, child care services, and transportation.

Regarding the issue of helping active-duty service members to transition to Veteran status, VA plans to offer and provide transition services in the southwest corner of the VA campus, near the U.S. Army Reserve Center and Army National Guard Recruiter facilities adjacent to the GLA campus. VA understands that service members often encounter a series of needs as they transition out of the military. Such needs could include securing employment and housing, addressing physical or mental health issues, and adjusting to civilian culture. The ease through which this transition is made has a profound impact on post service well-being. To complement the planned transition services, VA has also established a new Welcome Center in Building 257, where Veterans have access to a facility and setting that facilitates peer to peer interaction and socialization, and VA and non-VA support providers. Improved transition into VA will heighten the existing need for expanded primary care and targeted hiring. VA plans to address those needs through more targeted VA hiring at the campus, and improved options for Veteran care through the Choice Act. For more information on these issues, see Chapter IV, Figure V-7, and Chapter V of the Draft Master Plan.

The Draft Master Plan is available to the public at http://www.losangeles.va.gov/.

Dated: January 29, 2016.
Michael Shores,
Chief Impact Analyst, Office of Regulation Policy & Management.

[FR Doc. 2016-01940 Filed 2-1-16; 8:45 am]

BILLING CODE 8320-01-P